DEPARTMENT OF TRANSPORTATION

National Highway Traffic Safety Administration

[NHTSA Docket No. NHTSA-2008-0109]

Meeting Notice—Federal Interagency Committee on Emergency Medical Services

AGENCY: National Highway Traffic Safety Administration (NHTSA), DOT.

ACTION: Meeting Notice—Federal Interagency Committee on Emergency Medical Services.

SUMMARY: NHTSA announces a meeting of the Federal Interagency Committee on Emergency Medical Services to be held in Washington, DC. This notice announces the date, time and location of the meeting, which will be open to the public.

DATES: The meeting will be held on June 23, 2008, from 10 a.m. to 12 Noon.

ADDRESSES: The meeting will be held at the Department of Homeland Security (DHS), Office of Health Affairs, 1120 Vermont Avenue, NW., 4th Floor-Conference Room #1, Washington, DC 20005.

FOR FURTHER INFORMATION CONTACT: Drew Dawson, Director, Office of Emergency Medical Services, National Highway Traffic Safety Administration, 1200 New Jersey Avenue, SE., NTI-140, Washington, DC 20590; Telephone number (202) 366-9966; E-mail Drew.Dawson@dot.gov.

SUPPLEMENTARY INFORMATION: Section 10202 of the Safe, Accountable, Flexible, Efficient Transportation Equity Act: A Legacy For Users (SAFETEA-LU), Public Law 109-59, provided that the FICEMS consist of several officials from Federal agencies as well as a State emergency medical services director appointed by the Secretary of Transportation. SAFETEA-LU directed the Administrator of NHTSA, in cooperation with the Administrator of the Health Resources and Services Administration of the Department of Health and Human Services and the Director of the Preparedness Division, Directorate of Emergency Preparedness and Response of the Department of Homeland Security, to provide administrative support to the Interagency Committee, including scheduling meetings, setting agendas, keeping minutes and records, and producing reports.

This meeting of the FICEMS will focus on addressing the requirements of SAFETEA-LU and the opportunities for collaboration among the key Federal agencies involved in emergency medical services. The agenda will include:

• Consideration of the FICEMS Technical Working Group report and recommendations

• Evidence-based Practice Guidelines Process Conference

• Report to Congress discussion

• Briefing on and discussion of the National EMS Information System (NEMSIS)

• Reports, updates, recommendations from FICEMS members

• Report from the National EMS Advisory Council

This meeting will be open to the public. Individuals wishing to register must provide their name, affiliation, phone number, and e-mail address to Drew Dawson by e-mail at Drew.Dawson@dot.gov or by telephone at (202) 366-9966 no later than June 18, 2008. Pre-registration is necessary to comply with security procedures. Picture I.D. must also be provided to enter the DHS Building and it is suggested that visitors arrive 45 minutes early in order to facilitate entry.

Minutes of the FICEMS Meeting will be available to the public online through the DOT Document Management System (DMS) at: http://www.regulations.gov under the docket number listed at the beginning of this notice.

Issued on: June 2, 2008.
Jeffrey P. Michael,
Acting Associate Administrator for Research & Program Development.

[FR Doc. E8-12607 Filed 6-4-08; 8:45 am]

BILLING CODE 4910-59-P